DEPARTMENT OF AGRICULTURE

Forest Service

Deschutes Provincial Advisory Committee (DPAC)

AGENCY: Forest Service, USDA.

ACTION: Notice of meeting.

SUMMARY: The Deschutes Provincial Advisory Committee will meet on April 5, 2007, starting at 9 a.m. at Jefferson County Firehall on the corner of Adam and “J” Street in Oregon. Agenda items will include a briefing on the progress for Travel Management, PAC upcoming program of work and scheduling, an update on the Five Buttes project on the Crescent Ranger District, and a membership round robin. All Deschutes Province Advisory Committee Meetings are open to the public and an open public forum is scheduled from 3:30 to 4 p.m.

FOR FURTHER INFORMATION CONTACT: Chris Mickle, Province Liaison, Deschutes NF, Crescent RD, P.O. Box 208, Crescent, OR, 97754, Phone (541) 433-3216.

Mike Johnson,
Acting Deschutes National Forest Supervisor.

[FR Doc. 07-1332 Filed 3-19-07; 8:45 am]

BILLING CODE 3410-11-M